DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before February 28, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0024, Dealer's Aircraft Registration Certificate Application. AC Form 8050-5 is an application for a dealer's Aircraft Registration Certificate which, under 49 U.S.C., 1404, may be issued to a person engaged in manufacturing, distributing, or selling aircraft. Information received enables the Civil Aviation registry to determine eligibility of an applicant to receive a Dealer's Certificate and issue the same to the correct name and address. The current estimated annual reporting burden is 1,557 hours.

2. 2120-0595, FAA Acquisition Management System (FAAAMS). Pursuant to Section 348 of Public Law 104-50, the FAA implements an acquisition management system that addresses the unique needs of the agency. This document established the policies, guiding principles, and internal procedures for the FAA's acquisition system. The current estimated annual reporting burden is 170,109 hours.

3. 2120-0643, Commercial Space Transportation Reusable Launch Vehicle and Reentry Licensing Regulation. The required information will be used to determine whether applicants satisfy requirements for obtaining a launch license to protect the public from risks associated with reentry operations from a site not operated by or situated on a Federal launch range. The respondents are those applying for a lunch site license. The current estimated annual reporting burden is 4,384 hours.

4. 2120-0674, Special Federal Regulation (SFAR)92, Flightcrew Compartment Access and Door Signs. SFAR 92 (to part 119) temporarily authorizes variances for certain air carrier from existing design standards for the flightcrew compartment doors and allows for return to service of modified airplanes without prior approved data. This allows certain air carriers to modify their flightcrew compartment door to delay or deter unauthorized entry to the flightcrew compartment. The modifications are conditional on submitting a detailed description of the changes within 90 days and within 180 days providing a schedule for accomplishing changes necessary to comply with all applicable airworthiness requirements. The current estimated annual reporting burden is 2,352 hours.

Issued in Washington, DC, on December 21, 2004.
Judith D. Street,
FAA Information Collection Clearance Officer, APF-100.

[FR Doc. 04-28559 Filed 12-29-04; 8:45 am]

BILLING CODE 4910-13-M